GENERAL SERVICES ADMINISTRATION

[Notice-MA-2020-06; Docket No. 2020-0002; Sequence No.15]

Relocation Allowances—Waiver of Certain Provisions of the Federal Travel Regulation (FTR) (Chapter 302) for Official Relocation Travel of Employees During the COVID-19 Pandemic

AGENCY: Office of Government-wide Policy (OGP), General Services Administration (GSA).

ACTION: Notice of GSA Bulletin FTR 20-06.

SUMMARY: This Federal Travel Regulation (FTR) bulletin informs agencies that certain provisions of the FTR governing official relocation travel are temporarily waived for employees relocating during the national emergency issued by the President on March 13, 2020 concerning the coronavirus disease 2019 (COVID-19).

DATES: Applicability Date: This notice is retroactively effective for official relocation travel performed after March 13, 2019, one year prior to the date of the national emergency issued by the President concerning COVID-19.

FOR FURTHER INFORMATION CONTACT: For clarification of content, contact Mr. Rodney (Rick) Miller, Senior Program Analyst, Office of Government-wide Policy, Office of Asset and Transportation Management, at 202-501-3822, or by email at travelpolicy@gsa.gov. Please cite Notice of FTR Bulletin 20-06.

SUPPLEMENTARY INFORMATION:

Background: Federal agencies authorize relocation entitlements to those individuals listed at FTR § 302-1.1 and those assigned under the Government Employees Training Act (GETA) (5 U.S.C. Chapter 41). The FTR requires relocating employees to complete all aspects of their relocation within one year or meet an authorized exception. Further, temporary storage of employees' household goods is limited to 150 days maximum for continental United States (CONUS) to CONUS shipments, and 180 days maximum for shipments with an origin/destination outside the continental United States (OCONUS). Employees are also limited to 10 calendar days to complete a house hunting trip. This FTR bulletin permits agencies to apply GSA-approved waivers to the aforementioned time requirements, within the parameters set forth in the bulletin, to prevent personal hardship to relocating employees impacted by the COVID-19 pandemic. This bulletin can be viewed at https://www.gsa.gov/ftrbulletins.

Jessica Salmoiraghi,
Associate Administrator, Office of Government-wide Policy.

[FR Doc. 2020-08687 Filed 4-23-20; 8:45 am]

BILLING CODE P